DEPARTMENT OF ENERGY

Federal Energy Regulatory Commission

Combined Notice of Filings #1

Take notice that the Commission received the following electric corporate filings:

Docket Numbers: EC22-101-000.

Applicants: Backbone Mountain Windpower LLC, Meyersdale Windpower LLC, Mill Run Windpower LLC, Somerset Windpower LLC, Waymart Wind Farm LLC, Sequitur Renewables, LLC.

Description: Joint Application for Authorization Under Section 203 of the Federal Power Act of Backbone Mountain Windpower LLC, et al.

Filed Date: 8/11/22.

Accession Number: 20220811-5161.

Comment Date: 5 p.m. ET 9/1/22.

Docket Numbers: EC22-102-000.

Applicants: Phobos Solar, LLC, PGR 2021 Lessee 11, LLC.

Description: Joint Application for Authorization Under Section 203 of the Federal Power Act of Phobos Solar, LLC, et al.

Filed Date: 8/12/22.

Accession Number: 20220812-5094.

Comment Date: 5 p.m. ET 9/2/22.

Take notice that the Commission received the following electric rate filings:

Docket Numbers: ER20-2098-001.

Applicants: Titan Solar 1, LLC.

Description: Notice of Non-Material Change in Status of Titan Solar 1, LLC.

Filed Date: 8/12/22.

Accession Number: 20220812-5087.

Comment Date: 5 p.m. ET 9/2/22.

Docket Numbers: ER22-1880-000.

Applicants: ISO New England Inc.

Description: ISO New England Inc. submits Capital Budget Quarterly Filing for Second Quarter of 2022.

Filed Date: 8/11/22.

Accession Number: 20220811-5164.

Comment Date: 5 p.m. ET 9/1/22.

Docket Numbers: ER22-2464-000.

Applicants: Black Hills Power, Inc.

Description: Report Filing: Supplement to Jurisdictional Agreement Filing—Misc. Serv. Agmts & Rate Scheds to be effective N/A.

Filed Date: 8/12/22.

Accession Number: 20220812-5042.

Comment Date: 5 p.m. ET 9/2/22.

Docket Numbers: ER22-2465-000.

Applicants: Black Hills Power, Inc.

Description: Report Filing: Supplement to Jurisdictional Agreement Filing—Misc. Serv. Agmts & Rate Scheds to be effective N/A.

Filed Date: 8/12/22.

Accession Number: 20220812-5043.

Comment Date: 5 p.m. ET 9/2/22.

Docket Numbers: ER22-2518-000.

Applicants: Clearwater Wind I, LLC.

Description: Amendment to July 28, 2022 Clearwater Wind I, LLC tariff filing.

Filed Date: 8/12/22.

Accession Number: 20220812-5085.

Comment Date: 5 p.m. ET 8/22/22.

Docket Numbers: ER22-2525-000.

Applicants: Gridmatic Inc.

Description: Refund Report: Proposed Refund Report to be effective N/A.

Filed Date: 8/12/22.

Accession Number: 20220812-5115.

Comment Date: 5 p.m. ET 9/2/22.

Docket Numbers: ER22-2644-000.

Applicants: PJM Interconnection, L.L.C.

Description: § 205(d) Rate Filing: Amendment to WMPA, Service Agreement No. 5377; Queue No. AE1-099 to be effective 3/29/2019.

Filed Date: 8/11/22.

Accession Number: 20220811-5131.

Comment Date: 5 p.m. ET 9/1/22.

Docket Numbers: ER22-2645-000.

Applicants: PJM Interconnection, L.L.C.

Description: § 205(d) Rate Filing: Original ISA, Service Agreement No. 6571; Queue No. AE2-104 to be effective 7/14/2022.

Filed Date: 8/11/22.

Accession Number: 20220811-5134.

Comment Date: 5 p.m. ET 9/1/22.

Docket Numbers: ER22-2646-000.

Applicants: Graphite Solar 1, LLC.

Description: § 205(d) Rate Filing: Graphite Solar I, LLC Notice of Succession to be effective 8/13/2022.

Filed Date: 8/12/22.

Accession Number: 20220812-5012.

Comment Date: 5 p.m. ET 9/2/22.

Docket Numbers: ER22-2647-000.

Applicants: NextEra Energy Transmission New York, Inc., New York Independent System Operator, Inc.

Description: § 205(d) Rate Filing: NextEra Energy Transmission New York, Inc. submits tariff filing per 35.13(a)(2)(iii: Section 205 EPC Agreement among NYISO, NEETNY, and Excelsior Energy SA.2690 to be effective 7/29/2022.

Filed Date: 8/12/22.

Accession Number: 20220812-5024.

Comment Date: 5 p.m. ET 9/2/22.

Docket Numbers: ER22-2648-000.

Applicants: Omaha Public Power District.

Description: Request for Limited Waiver, et al. of Omaha Public Power District.

Filed Date: 8/11/22.

Accession Number: 20220811-5158.

Comment Date: 5 p.m. ET 8/25/22.

Docket Numbers: ER22-2649-000.

Applicants: Puget Sound Energy, Inc.

Description: § 205(d) Rate Filing: Proposed Revisions to Market-Based Rate Tariff to be effective 10/11/2022.

Filed Date: 8/12/22.

Accession Number: 20220812-5063.

Comment Date: 5 p.m. ET 9/2/22.

Docket Numbers: ER22-2650-000.

Applicants: Alabama Power Company, Georgia Power Company, Mississippi Power Company.

Description: Tariff Amendment: Alabama Power Company submits tariff filing per 35.15: Claxton Solar LGIA Termination Filing to be effective 8/12/2022.

Filed Date: 8/12/22.

Accession Number: 20220812-5084.

Comment Date: 5 p.m. ET 9/2/22.

Docket Numbers: ER22-2651-000.

Applicants: ISO New England Inc.

Description: ISO New England Inc., Filing of Permanent De-List Bids and Retirement De-List Bids Submitted for the Seventeenth Forward Capacity Auction.

Filed Date: 8/10/22.

Accession Number: 20220810-5181.

Comment Date: 5 p.m. ET 8/31/22.

Docket Numbers: ER22-2652-000.

Applicants: PacifiCorp.

Description: § 205(d) Rate Filing: Dixie Power Communications Sharing Agreement to be effective 10/12/2022.

Filed Date: 8/12/22.

Accession Number: 20220812-5136.

Comment Date: 5 p.m. ET 9/2/22.

Docket Numbers: ER22-2653-000.

Applicants: PJM Interconnection, L.L.C.

Description: § 205(d) Rate Filing: Revisions to Sch. 12-Appx A: July 2022 RTEP, 30-Day Comment Period Requested to be effective 11/10/2022.

Filed Date: 8/12/22.

Accession Number: 20220812-5151.

Comment Date: 5 p.m. ET 9/2/22.

Docket Numbers: ER22-2654-000.

Applicants: Southwest Power Pool, Inc., Grand River Dam Authority.

Description: § 205(d) Rate Filing: Southwest Power Pool, Inc. submits tariff filing per 35.13(a)(2)(iii: Grand River Dam Authority Revisions to Formula Rate Protocols to be effective 10/12/2022.

Filed Date: 8/12/22.

Accession Number: 20220812-5155.

Comment Date: 5 p.m. ET 9/2/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 12, 2022.
Kimberly D. Bose,
Secretary.

[FR Doc. 2022-17819 Filed 8-18-22; 8:45 am]

BILLING CODE 6717-01-P